DEPARTMENT OF THE INTERIOR

Bureau of Land Management

[OR-130-1020-PH; GP01-0149]

Notice of the Meeting of the Eastern Washington Advisory Council; April 27, 2001, in Spokane, WA.

AGENCY: Bureau of Land Management, Spokane District.

SUMMARY: A meeting of the Eastern Washington Resource Advisory Council will be held on April 27, 2001. The meeting will convene at 9 am, at the Spokane District Office, Bureau of Land Management, 1103 North Fancher Road, Spokane, Washington, 99212-1275. The meeting will adjourn upon conclusion of business, but no later than 4 pm. Public comments will be heard from 10 am until 10:30 am. If necessary, to accommodate all wishing to make public comments, a time limit may be placed upon each speaker. At an appropriate time, the meeting will adjourn for approximately one hour for lunch. Topics to be discussed include Election of Chair, Interior Columbia Basin Ecosystem Management Project Status Report, BLM Work Plan for FY 2001, BLM/Forest Service Fire Program, Charter Renewal and Next Meeting Scheduling.

FOR FURTHER INFORMATION CONTACT: Bureau of Land Management, Spokane District Office, 1103 N. Fancher Road, Spokane, Washington, 99212; or call 509-536-1200.

Dated: April 2, 2001.
Joseph K. Buesing,
District Manager.

[FR Doc. 01-8968 Filed 4-10-01; 8:45 am]

BILLING CODE 4310-33-P